DEPARTMENT OF LABOR

Mine Safety and Health Administration

Petitions for Modification

The following parties have filed petitions to modify the application of existing safety standards under section 101(c) of the Federal Mine Safety and Health Act of 1977.

1. HB Coal Co., Inc.

[Docket No. M-2003-021-C]

HB Coal Co., Inc., 22 Mary Ann Dr., Gray, Kentucky 40734 has filed a petition to modify the application of 30 CFR 75.342 (Methane monitors) to its No. 1 Mine (MSHA I.D. No. 15-18606) located in Whitley County, Kentucky. The petitioner proposes to use hand-held continuous-duty methane and oxygen detectors in lieu of machine mounted methane monitors on three-wheel tractors with drag bottom buckets. The petitioner asserts that the operator will be qualified in the proper use of said detector and that application of the existing standard would reduce the safety of the miners.

2. HB Coal Co., Inc.

[Docket No. M-2003-022-C]

HB Coal Co., Inc., 22 Mary Ann Dr., Gray, Kentucky 40734 has filed a petition to modify the application of 30 CFR 75.380(f)(4)(i) (Escapeways; bituminous and lignite mines) to its No. 1 Mine (MSHA I.D. No. 15-18606) located in Whitley County, Kentucky. The petitioner proposes to use two ten-pound portable chemical fire extinguishers in the operator's deck of each Mescher tractor operated at its No. 1 Mine. The petitioner states that the equipment operator will inspect each fire extinguisher on a daily basis prior to entering the primary escapeway. The petitioner further states that a record of the daily inspection will be kept at the mine, and a sufficient number of spare fire extinguishers will be maintained at the mine in case a defective fire extinguisher is detected. The petitioner asserts that the proposed alternative method would provide at least the same measure of protection as the existing standard.

3. Bowie Resources Limited

[Docket No. M-2003-023-C]

Bowie Resources Limited, P.O. Box 483, Paonia, Colorado 81428 has filed a petition to modify the application of 30 CFR 75.1002 (Installation of electric equipment and conductors; permissibility) to its Bowie No. 2 Mine (MSHA I.D. No. 05-04591) located in Delta County, Colorado. The petitioner requests a modification of the standard to allow the use of permissible high-voltage continuous miners inby the last open crosscut and within 150 feet of the pillar workings. The petitioner states that the high-voltage continuous miner will be used to develop longwall gateroads and mains. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before May 5, 2003. Copies of these petitions are available for inspection at that address.

Dated at Arlington, Virginia, this 27th day of March, 2003.
Marvin W. Nichols, Jr.,
Director, Office of Standards, Regulations, and Variances.

[FR Doc. 03-8020 Filed 4-2-03; 8:45 am]

BILLING CODE 4510-43-P